DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Date of modification | Community No.
Arizona:
Maricopa (FEMA Docket No.: B-2503) | City of Avondale (24-09-0727P). | Ron Corbin, Manager, City of Avondale, 11465 West Civic Center Drive, Avondale, AZ 85323. | City Hall, 11465 West Civic Center Drive, Avondale, AZ 85323. | Apr. 25, 2025 | 040038
Maricopa (FEMA Docket No.: B-2503) | City of Buckeye (24-09-0928P). | The Honorable Eric Orsborn, Mayor, City of Buckeye, 530 East Monroe Avenue, Buckeye, AZ 85326. | City Hall, 530 East Monroe Avenue, Buckeye, AZ 85326. | Apr. 15, 2025 | 040039
Maricopa (FEMA Docket No.: B-2503) | Unincorporated areas of Maricopa County (24-09-0928P). | Jack Sellers, Chair, Maricopa County, Board of Supervisors, 301 West Jefferson Street, Phoenix, AZ 85003. | Maricopa County, Flood Control District, 2801 West Durango Street, Phoenix, AZ 85009. | Apr. 15, 2025 | 040037
California:
Orange (FEMA Docket No.: B-2503) | City of San Juan Capistrano (24-09-1063P). | The Honorable Sergio Farias, Mayor, City of San Juan Capistrano, 30448 Rancho Viejo Road, Suite 110, San Juan Capistrano, CA 92675. | City Hall, 30448 Rancho Viejo Road, Suite 110, San Juan Capistrano, CA 92675. | May 9, 2025 | 060231
Riverside (FEMA Docket No.: B-2503) | City of Desert Hot Springs (23-09-1297P). | The Honorable Scott Matas, Mayor, City of Desert Hot Springs, 11999 Palm Drive, Desert Hot Springs, CA 92240. | City Hall, 11999 Palm Drive, Desert Hot Springs, CA 92240. | Apr. 22, 2025 | 060251
Riverside (FEMA Docket No.: B-2503) | City of Hemet (23-09-1268P). | The Honorable Joe Males, Mayor, City of Hemet, 445 East Florida Avenue, Hemet, CA 92543. | Public Works Engineering Division, 445 East Florida Avenue, Hemet, CA 92543. | Apr. 28, 2025 | 060253
Riverside (FEMA Docket No.: B-2503) | City of Riverside (23-09-1341P). | The Honorable Patricia Lock Dawson, Mayor, City of Riverside, 3900 Main Street, Riverside, CA 92522. | City Hall, 3900 Main Street, Riverside, CA 92522. | Apr. 29, 2025 | 060260
Riverside (FEMA Docket No.: B-2503) | City of Riverside (23-09-1373P). | The Honorable Patricia Lock Dawson, Mayor, City of Riverside, 3900 Main Street, Riverside, CA 92522. | City Hall, 3900 Main Street Riverside, CA 92522. | Apr. 28, 2025 | 060260
Riverside (FEMA Docket No.: B-2503) | Unincorporated areas of Riverside County (23-09-1268P). | Chuck Washington, Chair, Riverside County Board of Supervisors, 4080 Lemon Street, 5th Floor, Riverside, CA 92502. | Riverside County Flood Control and, Water Conservation District, 1995 Market Street, Riverside, CA 92501. | Apr. 28, 2025 | 060245
Colorado:
Arapahoe (FEMA Docket No.: B-2503) | City of Centennial (24-08-0630X). | The Honorable Stephanie Piko, Mayor, City of Centennial, 13133 East Arapahoe Road, Centennial, CO 80112. | Southeast Metro Stormwater Authority, 7437 South Fairplay Street, Centennial, CO 80112. | Mar. 28, 2025 | 080315
Boulder (FEMA Docket No.: B-2503) | City of Boulder (24-08-0332P). | The Honorable Aaron Brockett, Mayor, City of Boulder, 1777 Broadway, Boulder, CO 80302. | Park Central, 1739 Broadway, 3rd Floor, Boulder, CO 80302. | Apr. 23, 2025 | 080024
Boulder (FEMA Docket No.: B-2503) | Unincorporated areas of Boulder County (24-08-0332P). | Ashley Stolzmann, Chair, Boulder County, Board of Commissioners, P.O. Box 471, Boulder, CO 80306. | Boulder County Community, Planning & Permitting Building, 2045 13th Street, Boulder, CO 80302. | Apr. 23, 2025 | 080023
Douglas (FEMA Docket No.: B-2503) | Unincorporated areas of Douglas County (23-08-0736P). | George Teal, Chair, Douglas County, Board of Commissioners, 100 3rd Street, Castle Rock, CO 80104. | Douglas County, Public Works Department, 100 3rd Street, Castle Rock, CO 80104. | Apr. 11, 2025 | 080049
Larimer (FEMA Docket No.: B-2503) | Unincorporated areas of Larimer County (24-08-0303P). | John Kefalas, Chair, Larimer County, Board of Commissioners, P.O. Box 1190, Fort Collins, CO 80522. | Larimer County Courthouse, 200 West Oak Street, Suite 300, Fort Collins, CO 80521. | Apr. 15, 2025 | 080101
Routt (FEMA Docket No.: B-2503) | City of Steamboat Springs (24-08-0070P). | Gary Suiter, Manager, City of Steamboat Springs, P.O. Box 775088, Steamboat Springs, CO 80477. | City Hall, 124 10th Street, Steamboat Springs, CO, 80477. | Apr. 21, 2025 | 080159
Weld (FEMA Docket No.: B-2503) | City of Greeley (24-08-0261X). | The Honorable John Gates, Mayor, City of Greeley, 1000 10th Street, Greeley, CO 80631. | City Center East, 1000 10th Street, Greeley, CO 80631. | Mar. 31, 2025 | 080184
Weld (FEMA Docket No.: B-2503) | Town of Kersey (24-08-0261X). | The Honorable Gary Lagrimanta, Mayor, Town of Kersey, P.O. Box 657, Kersey, CO 80644. | Town Hall, 446 1st Street, Kersey, CO 80644. | Mar. 31, 2025 | 080185
Weld (FEMA Docket No.: B-2503) | Unincorporated areas of Weld County (24-08-0261X). | Kevin Ross, Chair, Weld County, Board of Commissioners, P.O. Box 758, Greeley, CO 80632. | Weld County Administrative Building, 1150 O Street, Greeley, CO 80631. | Mar. 31, 2025 | 080266
Washington: Cowlitz (FEMA Docket No.: B-2503) | Unincorporated areas of Cowlitz County (24-10-0479P). | Richard Dahl, Chair, Cowlitz County, Board of Commissioners, 207 4th Avenue North, Room 305, Kelso, WA 98626. | Cowlitz County Building and Planning Department, 207 4th Avenue North, Room 119, Kelso, WA 98626. | Apr. 16, 2025 | 530032

[FR Doc. 2025-12732 Filed 7-8-25; 8:45 am]

BILLING CODE 9110-12-P